DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than April 17, 2009.

Interested persons are invited to submit written comments regarding the subject matter of the investigations to the Director, Division of Trade Adjustment Assistance, at the address shown below, not later than April 17, 2009.

The petitions filed in this case are available for inspection at the Office of the Director, Division of Trade Adjustment Assistance, Employment and Training Administration, U.S. Department of Labor, Room N-5428, 200 Constitution Avenue, NW., Washington, DC 20210.

Signed at Washington, DC, this 2nd day of April 2009.
Linda G. Poole,
Certifying Officer, Division of Trade Adjustment Assistance.

Appendix
[TAA petitions instituted between 3/9/09 and 3/13/09]
TA-W | Subject firm (petitioners) | Location | Date of institution | Date of petition
65514 | Synventive Molding Solutions, Inc. (Comp) | Peabody, MA | 03/09/09 | 03/04/09
65515 | Bayloff Stamped Products (Union) | Kinsman, OH | 03/09/09 | 03/06/09
65516 | Bauer Industries, Inc. (Wkrs) | Hildebran, NC | 03/09/09 | 03/01/09
65517 | General Motors (UAW) | Warren, OH | 03/09/09 | 03/06/09
65518 | Sunbury Textile Mills (Wkrs) | Sunbury, PA | 03/09/09 | 03/06/09
65519 | Goodyear Tire and Rubber Company (USW) | Union City, TN | 03/09/09 | 03/06/09
65520 | Monaco Coach Corporation (State) | Hines, OR | 03/09/09 | 03/06/09
65521 | KB Alloys LLC—Wenatchee Plant (USW) | Malaga, WA | 03/09/09 | 03/06/09
65522 | Bernhardt Furniture Company (Wkrs) | Lenoir, NC | 03/09/09 | 03/03/09
65523 | Federal-Mogul Corporation (Wkrs) | Blacksburg, VA | 03/09/09 | 02/22/09
65524 | Volvo Truck—North America (UAW) | Dublin, VA | 03/09/09 | 02/25/09
65525 | Broan-Nutone Co (State) | Hartford, WI | 03/09/09 | 03/04/09
65526 | Monaco Coach Corporation (State) | Coburg, OR | 03/09/09 | 03/06/09
65527 | Alcoa Wenatchee Works (USW) | Malaga, WA | 03/09/09 | 03/06/09
65528 | The Warren Company (Comp) | Erie, PA | 03/09/09 | 03/06/09
65529 | Active USA/ATC Leasing (Wkrs) | Pleasant Prairie, WI | 03/09/09 | 02/18/09
65530 | Zosel Lumber Company (Comp) | Oroville, WA | 03/09/09 | 03/05/09
65531 | Mount Vernon Mills (Comp) | Williamston, SC | 03/10/09 | 03/09/09
65532 | Talbar, Inc. (Comp) | Meadville, PA | 03/10/09 | 03/06/09
65533 | Gerber Technology (Comp) | Richardson, TX | 03/10/09 | 03/02/09
65534 | ICTEL (Wkrs) | Charleston, IL | 03/10/09 | 02/22/09
65535 | Eaton Aviation Corporation (Comp) | Aurora, CO | 03/10/09 | 03/09/09
65536 | HS Converting (Comp) | Conover, NC | 03/10/09 | 03/09/09
65537 | Avery Dennison (Comp) | Sayre, PA | 03/10/09 | 03/09/09
65538 | Ferro Corporation (Wkrs) | Cleveland, OH | 03/10/09 | 03/09/09
65539 | Lexis Nexis (State) | San Francisco, CA | 03/10/09 | 03/09/09
65540 | Trinity Rail (Plant #19) Industries (Wkrs) | Longview, TX | 03/10/09 | 02/26/09
65541 | Icon Health and Fitness (State) | Logan, UT | 03/10/09 | 02/09/09
65542 | Momentive Performance Materials (Wkrs) | Hebron, OH | 03/10/09 | 03/09/09
65543 | Imperial Carbide, Inc. (Comp) | Meadville, PA | 03/10/09 | 03/06/09
65544 | Rund Lighting, Inc. (Wkrs) | Racine, WI | 03/10/09 | 03/04/09
65545 | Jeld-Wen Wood Fiber Division (Comp) | White Swan, WA | 03/10/09 | 03/03/09
65546 | Eco-Resin (Wkrs) | Forest City, NC | 03/10/09 | 02/27/09
65547 | Arvin Meritor (Wkrs) | Mullins, SC | 03/10/09 | 02/23/09
65548 | Mine Safety Appliances Dept. 151 (Wkrs) | Murrysville, PA | 03/10/09 | 03/05/09
65549 | Maverick Tube LLC (Comp) | Houston, TX | 03/11/09 | 02/18/09
65550 | Ceridian Corporation (Wkrs) | Minneapolis, MN | 03/11/09 | 02/12/09
65551 | Henman Engineering and Machine, Inc. (Wkrs) | Muncie, IN | 03/11/09 | 02/23/09
65552 | Datwyler Rubber and Plastic (Wkrs) | Marion, SC | 03/11/09 | 02/20/09
65553 | GKN Sinter Metals (Comp) | DuBois, PA | 03/11/09 | 03/10/09
65554 | Tube Fab/Roman Engineering (Wkrs) | East Afton, MI | 03/11/09 | 03/03/09
65555 | Whitepath Fab Tech, Inc. (Comp) | Ellijay, GA | 03/11/09 | 03/06/09
65556 | Samsung Austin Semiconductor (Wkrs) | Austin, TX | 03/11/09 | 02/25/09
65557 | Metaldyne (Wkrs) | Twinsburg, OH | 03/11/09 | 03/10/09
65558 | Hon Company HNI (Wkrs) | Owensboro, KY | 03/11/09 | 03/09/09
65559 | Data Technology (Comp) | Wilmington, MA | 03/11/09 | 03/04/09
65560 | True Textiles, Inc. (Comp) | Grand Rapids, MI | 03/11/09 | 03/10/09
65561 | Liberty Iron and Metal, LLC (Comp) | Erie, PA | 03/11/09 | 03/10/09
65562 | Maverick Tube, LLC (Comp) | Conroe, TX | 03/11/09 | 02/18/09
65563 | MEI, LLC (Wkrs) | Albany, OR | 03/11/09 | 03/10/09
65564 | General Motors Corporation/Global Purchasing (Wkrs) | Warren, MI | 03/11/09 | 02/12/09
65565 | Chrysler Quality Engineering Center (UAW) | Auburn Hills, MI | 03/11/09 | 02/04/09
65566 | Chrysler LLC (UAW) | Detroit, MI | 03/11/09 | 02/04/09
65567 | Webb Wheel Products, Inc. (Wkrs) | Cullman, AL | 03/11/09 | 03/09/09
65568 | Metal Powder Products (IUECWA) | St. Marys, PA | 03/11/09 | 03/10/09
65569 | Chrysler, LLC (State) | Auburn Hills, MI | 03/11/09 | 02/17/09
65570 | Pentair Water Pool and Spa (Wkrs) | Auburn, CA | 03/12/09 | 03/11/09
65571 | Chrysler Corporation, LLC (Technology Ctr) (Wkrs) | Warren, MI | 03/12/09 | 03/07/09
65572 | BHP Billiton (Comp) | Miami, AZ | 03/12/09 | 02/27/09
65573 | Excalibur Machine Company, Inc. (Comp) | Conneaut Lake, PA | 03/12/09 | 02/24/09
65574 | TrimMasters, Inc. (Comp) | Bardstown, KY | 03/12/09 | 02/27/09
65575 | Focus Products Group/Swing-A-Way (Comp) | St. Louis, MO | 03/12/09 | 03/09/09
65576 | SGL Carbon, LLC (IUECWA) | St. Marys, PA | 03/12/09 | 03/11/09
65577 | Behr Dayton Thermal Products (IUECWA) | Dayton, OH | 03/12/09 | 03/11/09
65578 | Lyon Workspace Products (USW) | Montgomery, IL | 03/12/09 | 03/01/09
65579 | Multi-Plastics, Inc. (Comp) | Saegertown, PA | 03/12/09 | 02/24/09
65580 | Sipco, Inc. (Comp) | Meadville, PA | 03/12/09 | 02/24/09
65581 | Form Tech Industries, LLC (Comp) | Minerva, OH | 03/12/09 | 03/11/09
65582 | Collins and Aikman products Company (Wkrs) | Detroit, MI | 03/12/09 | 03/10/09
65583 | Autosplice, Inc. (Comp) | San Diego, CA | 03/12/09 | 03/11/09
65584 | Tyco Electronics Corp. (Wkrs) | Jonestown, PA | 03/13/09 | 02/26/09
65585 | Simpson Door Company (Comp) | Centralia, WA | 03/13/09 | 03/11/09
65586 | Eaton Corporation (Comp) | Greenfield, IN | 03/13/09 | 03/12/09
65587 | ClearComm Communication (State) | Alameda, CA | 03/13/09 | 03/12/09
65588 | Finish Line Hosiery, Inc. (Comp) | Fort Payne, AL | 03/13/09 | 03/11/09
65589 | AZ Automotive (UAW) | Roseville, MI | 03/13/09 | 03/06/09
65590 | Johnson Controlls, Inc. (Comp) | Pulaski, TN | 03/13/09 | 03/12/09
65591 | ABF Freight Systems, Inc. (Wkrs) | Dayton, OH | 03/13/09 | 03/12/09

[FR Doc. E9-7793 Filed 4-6-09; 8:45 am]

BILLING CODE 4510-FN-P